DEPARTMENT OF HOMELAND SECURITY

Coast Guard

33 CFR Part 110

[CGD05-03-036]

RIN 1625-AA01

Anchorage Grounds; Baltimore Harbor Anchorage Project

Correction

In rule document 05-6956 beginning on page 17898 in the issue of Friday, April 8, 2005, make the following correction:

§ 110.158 [Corrected]

On page 17900, in the first column, in 110.158(a)(1)(i), in the table, under the column “Latitude”, in the fourth entry,

“39°14″47.90″ N”

should read

“39°14′47.90″ N”.

[FR Doc. C5-6956 Filed 4-19-05; 8:45 am]

BILLING CODE 1505-01-D